FEDERAL MINE SAFETY AND HEALTH REVIEW COMMISSION

Sunshine Act Meetings

TIME AND DATE: 10 a.m., Tuesday, March 11, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Nally & Hamilton Enterprises, Inc., Docket No. KENT 2022-0084. (Issues include whether substantial evidence supports the Judge's finding that a tree was not a hazardous condition that had to be reported and corrected within the meaning of 30 CFR 77.1713(a).)

Any person attending this meeting who requires special accessibility features and/or auxiliary aids, such as sign language interpreters, must inform the Commission in advance of those needs. Subject to 29 CFR 2706.150(a)(3) and 2706.160(d).

CONTACT PERSON FOR MORE INFORMATION: Emogene Johnson, (202) 434-9935/(202) 708-9300 for TDD. Relay/1-800-877-8339 for toll free.

Phone Number for Listening to Meeting: 1 (866) 236-7472. Passcode: 678-100.

Authority: 5 U.S.C. 552b.

Dated: February 27, 2025.
Sarah L. Stewart,
Deputy General Counsel.

[FR Doc. 2025-03472 Filed 2-27-25; 4:15 pm]

BILLING CODE 6735-01-P